DEPARTMENT OF ENERGY

Federal Energy Regulatory Commission

[Docket No. CP21-45-000]

Florida Gas Transmission, LLC; Notice of Availability of the Draft Environmental Impact Statement for the Proposed Big Bend Project

The staff of the Federal Energy Regulatory Commission (FERC or Commission) has prepared an environmental impact statement (EIS) for the Big Bend (Project), proposed by Florida Gas Transmission Company, LLC (FGT) in the above-referenced docket. The Project would increase FGT's certificated capacity by 29,000 million British thermal units per day (MMBtu/d) and is designed to serve the expanding need for additional firm transportation service in Hillsborough County, Florida for current and future electricity generation.

FGT also requests approval to construct/modify certain mainline pipeline and appurtenant facilities including installation of new pipeline loops located on FGT's existing pipeline system in Calhoun and Jefferson Counties, Florida, and compression facilities located in Gadsden, Gilchrist, Santa Rosa, and Taylor Counties, Florida.

The draft EIS assesses the potential environmental effects of the construction and operation of the Project in accordance with the requirements of the National Environmental Policy Act (NEPA). As described in the draft EIS, the FERC staff concludes that approval of the Project would result in some adverse environmental impacts; however, with the exception of climate change impacts, these impacts would be reduced to less-than-significant levels because of the impact avoidance, minimization, and mitigation measures proposed by FGT and those recommended by staff in the EIS. FERC staff is unable to determine significance with regards to climate change impacts.

The Project would consist of the following facilities in Florida:

• West Loop—installing approximately 1.7 miles of 36-inch-diameter pipe looping ¹ in Calhoun County;

¹ A pipeline loop is a segment of pipe constructed parallel to an existing pipeline to increase capacity.

• East Loop—installing approximately 1.5 miles of 36-inch-diameter pipe looping in Jefferson County;

• Calhoun Receiver Station Relocation—remove the existing 36-inch-diameter mainline pig ² receiver located at the beginning of the West Loop and relocate to a proposed pig receiver site to be installed at the terminus of the proposed West Loop in Calhoun County;

² A “pig” is a tool that the pipeline company inserts into and pushes through the pipeline for cleaning the pipeline, conducting internal inspections, or other purposes.

• Jefferson Receiver Station Relocation—remove the existing 36-inch-diameter mainline loop pig receiver located at the beginning of the East Loop and relocate to a proposed pig receiver site to be installed at the terminus of the proposed East Loop in Jefferson County;

• Compressor Station 12—upgrade an existing natural gas-fired compressor turbine (Unit 1207) from 15,000 horsepower (HP) to16,000 HP at FGT's existing Compressor Station 12, located in Santa Rosa County;

• Compressor Station 14—upgrade an existing natural gas-fired compressor turbine (Unit 1409) from 20,500 HP to 23,500 HP at FGT's existing Compressor Station 14, located in Gadsden County;

• Compressor Station 15—upgrade an existing natural gas-fired compressor turbine (Unit 1507) from 15,000 HP to 16,000 HP at FGT's existing Compressor Station 15, located in Taylor County; and

• Compressor Station 24—upgrade an existing natural gas-fired compressor turbine (Unit 2403) from 20,500 HP to 23,500 HP at FGT's existing Compressor Station 24, located in Gilchrist County.

The Commission mailed a copy of the Notice of Availability of the draft EIS to federal, state, and government representatives and agencies; elected officials; environmental and public interest groups; Native American tribes; potentially affected landowners; other interested individuals and groups; and newspapers and libraries in the project area. The EIS is only available in electronic format. It may be viewed and downloaded from the FERC's website (www.ferc.gov), on the natural gas environmental documents page https://www.ferc.gov/industries/gas/enviro/eis.asp). In addition, the EIS can be accessed by using the eLibrary link on the FERC's website. Click on the eLibrary link (https://www.ferc.gov/docs-filing/elibrary.asp), click on General Search, and enter the docket number in the “Docket Number” field (i.e., CP21-45). Be sure you have selected an appropriate date range. For assistance, please contact FERC Online Support at FercOnlineSupport@ferc.gov or toll free at (866) 208-3676, or for TTY, contact (202) 502-8659.

The EIS is not a decision document. It presents Commission staff's independent analysis of the environmental issues for the Commission to consider when addressing the merits of all issues in this proceeding. Any person wishing to comment on the EIS may do so. Your comments should focus on the EIS's disclosure and discussion of potential environmental effects, measures to avoid or lessen environmental impacts, and the completeness of the submitted alternatives, information and analyses. The more specific your comments, the more useful they would be. To ensure that the Commission has the opportunity to consider your comments prior to making its decision on this project, it is important that we receive your comments in Washington, DC on or before 5:00 p.m. Eastern Time on January 10, 2022.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address. Be sure to reference the project docket number (CP21-45-000) with your submission: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Any person seeking to become a party to the proceeding must file a motion to intervene pursuant to Rule 214 of the Commission's Rules of Practice and Procedures (18 CFR part 385.214). Motions to intervene are more fully described at https://www.ferc.gov/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: November 18, 2021.
Debbie-Anne A. Reese,
Deputy Secretary.

[FR Doc. 2021-25678 Filed 11-23-21; 8:45 am]

BILLING CODE 6717-01-P